DEPARTMENT OF AGRICULTURE

Animal and Plant Health Inspection Service

[Docket No. APHIS-2008-0088]

Mexican Fruit Fly; Removal of Quarantined Areas

AGENCY: Animal and Plant Health Inspection Service, USDA.

ACTION: Notice of changes to quarantined area.

SUMMARY: We are advising the public that we have made changes to the areas quarantined for Mexican fruit fly. The quarantined area was updated on July 15, 2008, by removing from quarantine the area in San Diego County, CA, that had been quarantined, and on August 20, 2008, by removing from quarantine the area in Willacy County, TX, that had been quarantined.

FOR FURTHER INFORMATION CONTACT: Dr. Wayne D. Burnett, National Coordinator, USDA-APHIS-Fruit Fly Exclusion and Detection Programs, 4700 River Road Unit 137, Riverdale, MD 20737-1234; (301) 734-4387.

SUPPLEMENTARY INFORMATION:

Background

The Mexican fruit fly (Anastrepha ludens) is a destructive pest of fruit. In the United States, the Mexican fruit fly attacks apples, apricots, avocados, grapefruit, mangos, nectarines, peaches, pears, plums, prunes, oranges, and tangerines, as well as other fruits.

In a final rule published in the Federal Register (73 FR 32431-32439, Docket No. APHIS-2006-0084) on June 9, 2008, and effective on July 9, 2008, we established a new subpart that consolidated our domestic fruit fly quarantine regulations (§§ 301.32 through 301.32-10, referred to below as the regulations). These regulations set out procedures for determining the areas quarantined for fruit flies and impose restrictions on the interstate movement of regulated articles from quarantined areas.

Section 301.32-3 of the regulations sets out the procedures for determining the areas quarantined for fruit flies. Paragraph (a) of § 301.32-3 states that the Administrator will designate as a quarantined area each State, or each portion of a State, in which a fruit fly population subject to the regulations has been found by an inspector or in which the Administrator has reason to believe that a fruit fly population is present, or that the Administrator considers necessary to quarantine because of its inseparability for quarantine enforcement purposes from localities in which a fruit fly population has been found.

Section 301.32-3 of the regulations provides that a State, or a portion of a State, will be removed from quarantine when the Administrator determines that sufficient time has passed without finding additional flies or other evidence of infestation in the area to conclude that the fruit fly no longer exists in that area.

Section 301.32-3 of the regulations further provides that the Administrator will publish the description of the quarantined area on the Plant Protection and Quarantine (PPQ) Web site, http://www.aphis.usda.gov/plant_health/plant_pest_info/fruit_flies/index.shtml . The description of the quarantined area will include the date the description was last updated and a description of the changes that have been made to the quarantined area. The description of the quarantined area may also be obtained by request from any local office of PPQ; local officials are listed in telephone directories. Finally, § 301.32-3 establishes that, after a change is made to the quarantined area, we will publish a notice in the Federal Register informing the public that the change has occurred and describing the change to the quarantined area.

On July 15, 2008, we removed the area in San Diego County, CA, from quarantine and updated the quarantined area for Mexican fruit fly on the PPQ Web site.

On August 20, 2008, we removed the area in Willacy County, TX, from quarantine and updated the quarantined area for Mexican fruit fly on the PPQ Web site.

This notice is to inform the public of these changes.

Previous Interim Rules

This notice also serves to inform the public that we are taking no action on the following fruit fly quarantine interim rules because the lists of areas quarantined for fruit flies were removed from the regulations in the June 2008 final rule.

• Mediterranean Fruit Fly; Add Portions of Santa Clara and Solano Counties, CA, to the List of Quarantined Areas (72 FR 69137-69139, Docket No. APHIS-2007-0133), published and effective December 7, 2007;

• Mexican Fruit Fly; Removal of Quarantined Area (73 FR 5086-5087, Docket No. APHIS-2008-0129), published and effective January 29, 2008, which removed Willacy County, TX, from the list of Mexfly quarantined areas;

• Mediterranean Fruit Fly; Add Portion of Los Angeles County, CA, to the List of Quarantined Areas (73 FR 9171-9172, Docket No. APHIS-2008-0004), published and effective February 20, 2008; and

• Mexican Fruit Fly; Designation of Portion of Willacy County, TX, as a Quarantined Area (73 FR 31929-31930, Docket No. APHIS-2008-0057), published and effective June 5, 2008.

The current fruit fly quarantined areas can be viewed on the PPQ Web site at http://www.aphis.usda.gov/plant_health/plant_pest_info/fruit_flies/index.shtml .

Authority: 7 U.S.C. 7701-7772 and 7781-7786; 7 CFR 2.22, 2.80, and 371.3.

Done in Washington, DC, this 23rd day of September 2008.
Kevin Shea,
Acting Administrator, Animal and Plant Health Inspection Service.

[FR Doc. E8-22837 Filed 9-26-08; 8:45 am]

BILLING CODE 3410-34-P